ENVIRONMENTAL PROTECTION AGENCY

[OPP-0900657; FRL-6554-7]

EPA-USDA Committee to Advise on Reassessment and Transition; Request for Nominations for Appointment

AGENCY: Environmental Protection Agency (EPA).

ACTION: Notice.

SUMMARY: The EPA-USDA Committee to Advise on Reassessment and Transition (CARAT) is being established in accordance with the Federal Advisory Committee Act as a subcommittee under the auspices of the EPA National Advisory Council for Environmental Policy and Technology (NACEPT). The purpose of CARAT is to provide advice and counsel to the Administrator of EPA and the Secretary of Agriculture regarding strategic approaches for pest management planning and tolerance reassessment for pesticides as required by the Food Quality Protection Act of 1996 (FQPA). CARAT is preceded by the Tolerance Reassessment Advisory Committee and will be guided by the principles set forth by the Vice President for EPA and USDA to work together to ensure smooth implementation of FQPA through use of sound science, consultation with stakeholders, increased transparency and reasonable transition for agriculture. EPA and USDA are soliciting qualified candidates who want to be considered for appointment to CARAT.

DATES: Nominations will be accepted until 5:00 p.m. on May 26, 2000.

ADDRESSES: Nominations must be submitted in writing by mail, electronically or in person. Please follow the detailed instructions for each method as provided in Unit I. C. of the SUPPLEMENTARY INFORMATION. To ensure proper receipt by EPA, it is imperative that you identify docket control number OPP-00657 in the subject line on the first page of your response.

FOR FURTHER INFORMATION CONTACT: Margie Fehrenbach, Designated Federal Officer, CARAT, Office of Pesticide Programs (7501-C), Office of Prevention, Pesticides and Toxic Substances, Environmental Protection Agency, 1200 Pennsylvania Ave., NW, Washington, DC 20460; telephone number: (703) 305-7090; e-mail address: Fehrenbach.margie@epa.gov.

SUPPLEMENTARY INFORMATION:

I. General Information

A. Does this Action Apply to Me?

This action is directed to the public in general; however, it may be of interest to persons who are concerned about implementation of the FQPA (Public Law 104-170). Passed in 1996, this new law strengthens the nation's system for regulating pesticides on food. CARAT was preceded by the Tolerance Reassessment Advisory Committee which was established in 1998 in response to Vice President Gore's request for EPA and USDA to work together to ensure smooth implementation of FQPA.

B. How Can I Get Additional Information, Including Copies of this Document or Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

To access information about the Committee to Advise on Reassessment and Transition (CARAT), go directly to the Home Page for EPA's Office of Pesticide Programs at http://www.epa.gov/pesticides/carat/.

2. In person. The Agency has established an official record for this action under docket control number OPP-00657. The official record is available in the Docket for inspection from 8:30 a.m. to 4:00 p.m., Monday - Friday, excluding Federal holidays, in the Public Information and Records Integrity Branch (PIRIB), Office of Pesticide Programs, USEPA, Crystal Mall 2 (CM #2), 1921 Jefferson Davis Highway, Rm. 119, Arlington, VA 22202, telephone number (703) 305-5805.

C. How and to Whom do I Submit Nominations?

You may submit nominations through the mail, in person, or electronically. To ensure proper receipt by EPA, it is imperative that you identify docket control number OPP-00657 in the subject line on the first page of your response.

1. By mail. Submit your nominations to: Public Information and Records Integrity Branch, 7502-C, Office of Pesticide Programs, Office of Prevention, Pesticides and Toxic Substances (OPPTS), US Environmental Protection Agency, 1200 Pennsylvania Ave., NW, Washington, DC 20460.

2. In person or by courier. Deliver your nominations to: Public Information and Records Integrity Branch, Office of Pesticide Programs, OPPTS, Environmental Protection Agency, CM #2, 1921 Jefferson Davis Highway, Rm. 119, Arlington, VA 22202. The Docket is open from 8:30 a.m. to 4 p.m., Monday through Friday, excluding legal holidays. The telephone number for the Docket is (703) 305-5805.

3. Electronically. You may submit your nominations electronically by e-mail to: fehrenbach.margie@epa.gov, or you can submit a computer disk by mail as described in this unit. Do not submit any information electronically that you consider to be Confidential Business Information. Electronic nominations must be submitted as an ASCII file avoiding the use of special characters and any form of encryption. Nominations will also be accepted on standard disks in WordPerfect 6.1/8.0 or ASCII file format. All nominations in electronic form must be identified by docket control number OPP-00657.

II. Background

FQPA, Public Law 104-170 was passed in 1996 to strengthen the nation's system for regulating pesticides on food. CARAT is preceded by the Tolerance Reassessment Advisory Committee (TRAC), a previous joint advisory committee which existed from April 1998 through October 1999 in response to Vice President Gore's request for EPA and USDA to work together to ensure smooth implementation of the Food Quality Protection Act. Consistent with the important principles established by the Vice President in April 1998, EPA and USDA will work together and guide their implementation efforts by: applying sound science to all decisions; making our regulatory process transparent; providing appropriate reasonable transition mechanisms that will reduce risk but not jeopardize our nation's agriculture and its farm communities; and consulting with interested constituencies.

CARAT is co-chaired by EPA Acting Deputy Administrator Michael McCabe and USDA Deputy Secretary Richard Rominger. Among its objectives will be such issues as: Identifying opportunities for reasonable transition and strategic pest management planning for agriculture and public health uses of pesticides; providing advice to promote sound science and transparency in the scientific risk assessments necessary to implement the FQPA, including tolerance reassessment and pesticide reregistration; and assuring appropriate priority is given to risk management strategies for the pesticides that are most likely to lead to exposures to children.

List of Subjects

Environmental protection, Agriculture, Chemicals, Food, Pesticides, Tolerance Reassessment and Pests.

Dated: May 8, 2000.
Susan H. Wayland,
Acting Assistant Administrator for Prevention, Pesticides, and Toxic Substances.

[FR Doc. 00-12131 Filed 5-10-00; 12:07 pm]

BILLING CODE 6560-0950-F